ENVIRONMENTAL PROTECTION AGENCY

[ER-FRL-6661-1]

Environmental Impact Statements; Notice of Availability

Responsible Agency: Office of Federal Activities, General Information (202) 564-7167 or http://www.epa.gov/compliance/nepa/.

Weekly receipt of Environmental Impact Statements filed February 22, 2005, through February 25, 2005, pursuant to 40 CFR 1506.9.

EIS No. 050078, Draft EIS, AFS, NE, SD, Black-Tailed Prairie Dog Conservation and Management on the Nebraska National Forest and Associated Units, Implementation, Dawes, Sioux, Blaine, Cherry, Thomas Counties, NE and Custer, Fall River, Jackson, Pennington, Jones, Lyman, Stanley Counties, SD, Comment Period Ends: April 18, 2005, Contact: Jeffery S. Abegglen (308) 432-0300.

EIS No. 050079, Final EIS, AFS, CA, Cottonwood Fire Vegetation Management Project, Control Vegetation Competing with Conifer Seedlings, Sierraville Ranger District, Tahoe National Forest, Sierra County, CA, Wait Period Ends: April 4, 2005, Contact: Teri Banka (530) 994-3401.

EIS No. 050080, Draft EIS, FRC, TX, Ingleside Energy Center Liquefied Natural Gas (LNG) Import Terminal and San Patricio Pipeline Natural Gas Pipeline, Authorization to Construct, Install and Operate, San Patricio and Nueces Counties, TX, Comment Period Ends: April 18, 2005, Contact: Thomas Russo 1-(866) 208-3372.

EIS No. 050081, Draft EIS, AFS, OR, B & B Recovery Project, Proposed Harvest of Fire-Killed Trees, Reduction of Fuels, Planting of Tree, Deschutes National Forest, Sisters Ranger District, Jefferson and Deschutes Counties, OR , Comment Period Ends: April 18, 2005, Contact: Leslie Weldon (541) 549-7743.

EIS No. 050082, Draft EIS, FRC, CO, WY, Entrega Pipeline Project, Construction and Operation New Interstate Natural Gas Pipeline System, Right-of-Way Grant Issue by BLM, Meeker Hub and Cheyenne Hub, Rio Blanco and Weld Counties, CO, and Sweetwater County, WY, Comment Period Ends: April 18, 2005, Contact: Thomas Russo 1-(866) 208-3372

Amended Notices

EIS No. 050052, Draft EIS, FHW, MI, IN, US-131 Improvement Study, from the Indiana Toll Road (1-80/90) to a Point One Mile North of Cowling Road, U.S. Army COE Section 404 Permit, St. Joseph County, MI and Elkhart County, IN, Comment Period Ends: April 29, 2005, Contact: Abdelmoez A. Abdalla (517) 702-1820. Revision of Federal Register notice published on February 11, 2005: CEQ Comment Period Ending March 28, 2005, has been Extended to April 29, 2005.

Dated: March 1, 2005.
Robert W. Hargrove,
Director, NEPA Compliance Division, Office of Federal Activities.

[FR Doc. 05-4253 Filed 3-3-05; 8:45 am]

BILLING CODE 6560-50-P